DEPARTMENT OF AGRICULTURE

Forest Service

Glenn/Colusa County Resource Advisory Committee

AGENCY: Forest Service, USDA.

ACTION: Notice of Meeting.

SUMMARY: The Glenn/Colusa County Resource Advisory Committee (RAC) will meet in Willows California. Agenda items to be covered include: (1) Introductions, (2) Approval of Minutes, (3) Public Comment, (4) Status of Project Proposals, (5) Revised Tracking Form/Possible Action, (6) Historic Library, (7) Project Status, (8) Update on Absent Members, (9) How to Solicit Projects, (10 General Discussion.

DATES: The meeting will be held on January 27, 2003, from 1:30 p.m. and end at approximately 4:30 p.m.

ADDRESSES: The meeting will be held at the Mendocino National Forest Supervisory's Office, 825 N. Humboldt Ave., Willows, CA 95988. Individuals wishing to speak or propose agenda items must send their names and proposals to Jim Giachino, DFO, 825 N. Humboldt Ave., Willows, CA 95988.

FOR FURTHER INFORMATION CONTACT: Bobbin Gaddini, Committee Coordinator, USDA, Mendocino National Forest, Grindstone Ranger District, P.O. Box 164, Elk Creek, CA 95939. (530) 968-5329; E-MAIL ggaddini@fs.fed.us.

SUPPLEMENTARY INFORMATION: The meeting is open to the public. committee discussion is limited to Forest Service staff and Committee members. However, persons who wish to bring matters to the attention of the Committee may file written statements with the Committee staff before or after the meeting. Public input sessions will be provided and individuals who made written requests by January 24, 2003 will have opportunity to address the committee at those sessions.

Dated: January 15, 2003.
James F. Giachino,
Designated Federal Official.

[FR Doc. 03-1296 Filed 1-21-03; 8:45 am]

BILLING CODE 3410-11-M